Title 3—

The President

Proclamation 7430 of April 27, 2001

National Day of Prayer, 2001

By the President of the United States of America

A Proclamation

Turning to prayer in times of joy and celebration, strife and tragedy is an integral part of our national heritage. When the first settlers landed on the rocky shores of the New World, they celebrated with prayer, and the practice has continued through our history. In 1775, the Continental Congress asked the citizens of the colonies to pray for wisdom in forming a Nation. General George Washington, encamped at Valley Forge, also sought God's guidance as Americans fought for their independence. The faith of our Founding Fathers established the precedent that prayers and national days of prayer are an honored part of our American way of life.

Continuing in that tradition, many of the men and women who have served at the highest levels of our Nation also have turned to prayer seeking wisdom from the Almighty. President Lincoln, who proclaimed a day of “humiliation, fasting, and prayer” in 1863, once stated: “I have been driven many times to my knees by the overwhelming conviction that I had nowhere else to go. My own wisdom, and that of all about me, seemed insufficient for the day.” Today, millions of Americans continue to hold dear that conviction President Lincoln so eloquently expressed. Gathering in churches, synagogues, mosques, temples, and homes, we ask for strength, direction, and compassion for our neighbors and ourselves.

The theme of the 2001 National Day of Prayer is “One Nation Under God.” In a prayer written specially for the occasion, Americans are asked to pray for “a moral and spiritual renewal to help us meet the many problems we face.” Special observances are scheduled for all 50 States, with local volunteers planning a variety of activities including prayer breakfasts, concerts, rallies, and student gatherings. These events will bring people of all faiths together, each according to his or her own beliefs, to give thanks to the Almighty and to ask for strength and guidance.

The Congress, by Public Law 100-307, has called on our citizens to reaffirm the role of prayer in our society and to honor the religious diversity our freedom permits by recognizing annually a “National Day of Prayer.”

NOW, THEREFORE, I, GEORGE W. BUSH, President of the United States of America, by virtue of the authority vested in me by the Constitution and laws of the United States of America, do hereby proclaim May 3, 2001, as a National Day of Prayer. I encourage the citizens of our Nation to pray each in his or her own manner, seeking God's blessings on our families and government officials and personal renewal, moral awakening, and a new spirit of harmony across our land. I urge all Americans to join in observing this day with appropriate programs, ceremonies, and activities.

IN WITNESS WHEREOF, I have hereunto set my hand this twenty-seventh day of April, in the year of our Lord two thousand one, and of the Independence of the United States of America the two hundred and twenty-fifth.

B

[FR Doc. 01-11209

Filed 5-1-01; 9:07 am]

Billing code 3195-01-P